DEPARTMENT OF JUSTICE

Antitrust Division

Joint Motion To Modify Final Judgment and United States' Memorandum in Support of Motion To Modify; United States vs. Baroid Corp., et al.

Correction

In notice document 00-9746 beginning on page 21027 in the issue of Wednesday, April 19, 2000, make the following correction:

On page 21028, in the first column, six lines from the bottom, “50 ” should read “60”.

[FR Doc. C0-9746 Filed 7-18-00; 8:45 am]

BILLING CODE 1505-01-D

DEPARTMENT OF LABOR

Occupational Safety and Health Administration

[Docket No. ICR 1218-0176(2000)]

Proposed Information Collection Request Submitted for Public Comment and Recommendations; 29 CFR Part 1904 Recording and Reporting Injuries and Illnesses (1218-0176)

Correction

In notice document 00-17266 beginning on page 42034 in the issue of Friday, July 7, 2000, make the following correction:

1. On page 42035, in the second column, in the fourth full paragraph, in the fourth line, “28 CFR” should read “29 CFR”.

2. On the same page, in the third column, in the 12th line, “1,395,516.” should read “1.5 hours”.

[FR Doc. C0-17266 Filed 7-18-00; 8:45 am]

BILLING CODE 1505-01-D